DEPARTMENT OF HOMELAND SECURITY

Coast Guard

[Docket No. USCG-2025-0194

Exemption Permit for the M/V Remote Supplier

AGENCY: Coast Guard, DHS.

ACTION: Notification of Issuance of Alaska Cargo Exemption Permit.

SUMMARY: Commander, Coast Guard Arctic District, has issued a permit exempting a vessel from requirements in 46 CFR when transporting cargo, including bulk fuel, within Alaska. Permits temporarily waive vessel inspection requirements to facilitate the movement of cargo, including bulk fuel, to remote Alaskan sites not serviced by fuel barge throughout Southeast Alaska. Remote Made Easy, LLC, the operator of M/V REMOTE SUPPLIER (O.N. 1200932) received a single permit allowing the vessel to conduct on-going bulk fuel deliveries of up to a total of 3,000 gallons, consisting of heating oil and diesel, carried in integral cargo tanks, and gasoline, that may be carried in approved portable tanks on deck. The permit expires on 27 March 2026. This notification of issuance of a permit promotes the Coast Guard's marine safety mission and the flow of essential cargo to remote sites.

DATES: The waiver permit was issued on 17 June 2025 and expires on 27 May 2026.

FOR FURTHER INFORMATION CONTACT: For information or questions about this notice call or email CDR Douglas Salik, and Arctic District, Prevention, Inspections and Investigations, U.S. Coast Guard; telephone (907) 463-2821, Douglas.Salik@uscg.mil.

SUPPLEMENTARY INFORMATION: Federal law ¹ formally recognizes the remoteness of Alaska, limited shipping options, underdeveloped port facilities, and limited oil spill response capability. Special authority to issue waivers allows for the delivery of essential goods, bulk fuel, and timely emergency assistance to areas of Alaska underserved by shippers or remote customers burdened with unique seasonal shipping conditions. 46 U.S.C. 3302(i) allows exemption from inspection requirements for voyages within Alaska. A permit may be issued for a specific voyage or for not more than one year. An issued permit will stipulate manning, along with any relevant requirements or restrictions for requested operations. The Commandant's authority to grant permits for such exemption to qualified vessels is re-delegated to Commander, Coast Guard Arctic District, in 33 CFR 1.01-50.

¹ 46 U.S.C. 3302, Exemptions from inspection. Sections (c), (d) & (i), all have Alaska specific application.

Permits may be granted if all the following conditions are met:

i. The vessel is not more than 300 Gross Registered Tonnage (GRT), or an alternate tonnage measured in accordance with 46 U.S.C. 3302(i)(A).

ii. The vessel is in a condition that does not present an immediate threat to the safety of life or the environment; and

iii. The vessel was operating in Alaska as of June 1, 1976 or is a replacement for such a vessel if the vessel being replaced is no longer in service.

Once issued, use of the permits is subject to the following conditions:

i. The permit may only be used when an inspected vessel that could carry the cargo is not reasonably available, or the cargo cannot be brought on overland routes. In a situation declared to be an emergency, a permit may be used to transport cargo without delay.

ii. If a vessel issued a permit creates an immediate threat to the safety of life or the environment or is operated in a manner inconsistent with the terms of the permit or the requirements, the permit may be revoked.

iii. If a vessel violates conditions on the permit, the responsible party may be liable to the United States Government for a civil penalty of not more than $1,000.

Having considered the conditions listed above, Commander, Coast Guard Arctic District, has issued a permit to Remote Made Easy, LLC for the M/V REMOTE SUPPLIER (O.N. 1200932), a 40.1 foot long landing craft inspected under Subchapter T as a small passenger vessel, operating out of Ketchikan, AK. The permit authorizes on-going bulk fuel deliveries of up to a total of 3,000 gallons of heating oil and diesel, grades D and E, carried in non-specification double-hull integral cargo tanks, and gasoline, grade A, carried in approved portable tanks on deck. The permitted vessel may deliver bulk fuel as cargo to remote Alaskan sites not serviced by fuel barge throughout Southeast Alaska.

This notice is issued under authority of 46 U.S.C. 3302(i) and 33 CFR 1.01-50.
D. Salik,
Commander, U.S. Coast Guard, Acting Chief of Prevention Division, Coast Guard Arctic District.

[FR Doc. 2025-13213 Filed 7-14-25; 8:45 am]

BILLING CODE 9110-04-P